DEPARTMENT OF ENERGY

[EERE-2013-BT-NOC-0005]

Appliance Standards and Rulemaking Federal Advisory Committee: Notice of Public Meeting

AGENCY: Office of Energy Efficiency and Renewable Energy, Department of Energy.

ACTION: Notice of open meeting and webinar.

SUMMARY: This notice announces a public meeting of the Appliance Standards and Rulemaking Federal Advisory Committee (ASRAC). The Federal Advisory Committee Act (FACA), requires that agencies publish notice of an advisory committee meeting in the Federal Register.

DATES: October 17, 2023 from 11 a.m. to 4 p.m., in Washington, DC.

ADDRESSES: The public meeting will be held at the National Renewable Energy Laboratory, 901 D Street SW, Suite 930, Washington, DC 20024. The meeting will also be broadcast as a webinar. See the Public Participation section of this notice for webinar registration information, participant instructions, and information about the capabilities available to webinar participants.

FOR FURTHER INFORMATION CONTACT: Mr. Lucas Adin, U.S. Department of Energy, Office of Energy Efficiency and Renewable Energy, Building Technologies Office, EE-5B, 1000 Independence Avenue SW, Washington, DC 20585-0121. Telephone: (202) 287-5904. Email ApplianceStandardsQuestions@ee.doe.gov.

SUPPLEMENTARY INFORMATION:

Purpose of Committee: The Committee provides advice and recommendations related to the development of minimum efficiency standards for residential appliances and commercial equipment; the development of product test procedures; the certification and enforcement of standards; the labeling for various residential products and commercial equipment; and specific issues of concern to DOE as requested by the Secretary of Energy, the Assistant Secretary for Energy Efficiency and Renewable Energy (EERE), and the Building Technologies Office (BTO) Director.

Tentative Agenda: DOE plans to hold this meeting virtually via webinar to gather advice and recommendations to the Department on the development of standards and test procedures for residential appliances and commercial equipment with the primary focus being the discussion and prioritization of topic areas that ASRAC can assist the Appliance and Equipment Standards Program with, particularly relating to rulemakings that could be subject to negotiation through ASRAC. (The final agenda will be available for public viewing at https://www.regulations.gov/docket?D=EERE-2013-BT-NOC-0005.)

Public Participation: The time, date and location of the public meeting are listed in the DATES and ADDRESSES sections at the beginning of this document. If you plan to attend the public meeting, please notify the ASRAC staff at asrac@ee.doe.gov.

Please note that foreign nationals participating in the public meeting are subject to advance security screening procedures which require advance notice prior to attendance at the public meeting. If a foreign national wishes to participate in the public meeting, please inform DOE as soon as possible by contacting Ms. Regina Washington at (202) 586-1214 or by email: Regina.Washington@ee.doe.gov so that the necessary procedures can be completed.

In addition, you can attend the public meeting via webinar. Webinar registration information, participant instructions, and information about the capabilities available to webinar participants will be published on DOE's website: https://www.energy.gov/eere/buildings/appliance-standards-and-rulemaking-federal-advisory-committee.

The webinar will held using the Webex software platform and participants are responsible for ensuring their systems are compatible with the webinar software. If you plan to attend the webinar, please notify the ASRAC staff at asrac@ee.doe.gov.

Conduct of Public Meeting: ASRAC's Designated Federal Officer will preside at the public meeting and may also use a professional facilitator to aid discussion. The meeting will not be a judicial or evidentiary-type public hearing, but DOE will conduct it in accordance with section 336 of EPCA (42 U.S.C. 6306).

Meeting Minutes: A transcript of the webinar will be included in the ASRAC docket: https://www.regulations.gov/docket?D=EERE-2013-BT-NOC-0005.

Signing Authority

This document of the Department of Energy was signed on September 8, 2023, by Francisco Alejandro Moreno, Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 11, 2023.
Treena V. Garrett,
Federal Register Liaison Officer, U.S. Department of Energy.

[FR Doc. 2023-19910 Filed 9-13-23; 8:45 am]

BILLING CODE 6450-01-P